DEPARTMENT OF HOUSING AND URBAN DEVELOPMENT

[Docket No. FR-4723-FA-30]

Announcement of Funding Award—FY 2002 Healthy Homes Demonstration, and Healthy Homes and Lead Technical Studies Grant Programs

AGENCY: Office of the Secretary—Office of Healthy Homes and Lead Hazard Control, HUD.

ACTION: Announcement of funding awards.

SUMMARY: In accordance with Section 102(a)(4)(C) of the Department of Housing and Urban Development Reform Act of 1989, this announcement notifies the public of funding decisions made by the Department in a competition for funding under the Healthy Homes Demonstration and Lead Technical Studies Notice of Funding Availability (NOFA). This announcement contains the name and address of the award recipients and the amounts of award.

FOR FURTHER INFORMATION CONTACT: For the Healthy Homes Demonstration and Healthy Homes Technical Studies Grant Programs, Ellen R. Taylor, Department of Housing and Urban Development, Office of Healthy Homes and Lead Hazard Control, Room P3206, 451 Seventh Street SW., Washington, DC, 20410-3000, telephone (202) 755-1785, ext. 116. For the Lead Technical Studies Grant Program, Warren Friedman, at the same address, phone extension 159. Hearing- and speech-impaired persons may access the numbers above via TTY by calling the toll free Federal Information Relay Service at 1-800-877-8339.

SUPPLEMENTARY INFORMATION: The authority for the Healthy Homes Demonstration and Lead Technical Studies Program is sections 501 and 502 of the Housing and Urban Development Act of 1970 and the Departments of Veterans Affairs and Housing and Urban Development, and Independent Agencies Appropriations Act, 2002, Public Law 107-73, approved November 26, 2001.

These awards were the result of a competition announced in Federal Register NOFAs published on March 26, 2002 for Healthy Homes and Lead Technical Studies (67 FR 14093), and for Healthy Homes Demonstration (67 FR 14115). The purpose of the competition was to award grant funding of approximately $8,600,000 for grants and cooperative agreements for the Healthy Homes Demonstration and the Healthy Homes Lead Technical Studies Grant Programs. Applications were scored and selected on the basis of selection criteria contained in those Notices.

A total of $8,586,202 was awarded to 17 grantees. $5,947,235 was awarded to 9 Healthy Homes Demonstration grantees, and $2,638,967 was awarded to 8 Healthy Homes and Lead Technical Studies grantees.

The Catalog of Federal Domestic Assistance number for this program is 14.901.

In accordance with section 102(a)(4)(C) of the Department of Housing and Urban Development Reform Act of 1989 (103 Stat. 1987, 42 U.S.C. 3545), the Department is publishing the names, addresses, and amounts of this awards as follows:

Awardee | Address | Award Amount
Healthy Homes Demonstration
City of Phoenix | 200 West Washington, 4th Floor Phoenix, AZ 85003 | $950,000
Healthy Homes Network | 3548 W. 129th Terrace, Leawood, KS 66209 | 920,805
University of Massachusetts Lowell | 600 Suffolk Street—1st Fl. South Lowell, MA 01854 | 164,748
Coalition to End Childhood Lead Poisoning | 2714 Hudson Street, Baltimore, MD 21224 | 872,032
Montana State University | P.O. Box 173580, Bozeman, MT 59717-3580 | 326,459
Urban Homesteading Assistance Board, Inc | 120 Wall Street, 20th Floor New York, NY 10005 | 263,191
Mount Sinai School of Medicine | One Gustave L. Levy Place New York, NY 10029-6574 | 950,000
City of Philadelphia | 2100 W. Girard Avenue, Bldg #3 Philadelphia, PA 19130-1400 | 800,000
City of Milwaukee Health Department | 841 North Broadway—Room 118 Milwaukee, WI 53202 | 700,000
Healthy Homes Technical Studies
Saint Louis University | 221 N. Grand Avenue, St. Louis, MO 63103 | 700,000
Advanced Energy Corporation | 909 Capability Drive, Suite 2100, Raleigh, NC 27606 | 700,000
University of Medicine & Dentistry of New Jersey | 170 Frelinghuysen Road, Room 236C Piscataway, NJ 08854 | 238,967
Lead Technical Studies
Phoenix Science & Technology, Inc. | 27 Industrial Ave. Chelmsford, MA 08124 | 397,118
National Center for Healthy Housing | 10227 Wincopin Circle, Suite 205 Columbia, MD 21044 | 60,804
Research Triangle Institute | 3040 Cornwallis Road Research Triangle Park, NC 27709 | 194,194
University of Cincinnati | P.O. Box 670553 Cincinnati, OH 45267 | 159,734
University of Cincinnati | P.O. Box 670553 Cincinnati, OH 45267 | 188,150

Dated: November 5, 2003.
Joseph F. Smith,
Deputy Director, Office of Healthy Homes and Lead Hazard Control.

[FR Doc. 03-30413 Filed 12-8-03; 8:45 am]

BILLING CODE 4210-70-P